DEPARTMENT OF THE INTERIOR

Bureau of Land Management

[CO-01-600-1919-241A]

Northwest Colorado Resource Advisory Council Meeting

AGENCY: Bureau of Land Management, Interior.

ACTION: Notice of meeting.

SUMMARY: The next meeting of the Northwest Colorado Resource Advisory Council will be held on Thursday, March 15, and Friday, March 16, 2001, at the Bureau of Land Management Grand Junction Office, Grand Junction, Colorado.

DATES: Thursday, March 15, and Friday, March 16 , 2001.

ADDRESSES: For further information, contact Lynn Barclay, Bureau of Land Management (BLM), 455 Emerson Street, Craig, Colorado 81625; Telephone (970) 826-5096.

SUPPLEMENTAL INFORMATION: The Northwest Resource Advisory Council (RAC) will meet on Thursday, March 15, 2001, and Friday, March 16, 2001, at the Bureau of Land Management Grand Junction Office, 2815 H Road, Grand Junction, Colorado 81506. The meeting will start at 1 p.m. on Thursday, March 15, ending at 4:30 p.m. that same day. The meeting will reconvene Friday, March 16 at 9 a.m. ending at 4 p.m. Discussion will include fire management and funding, Colorado Canyons National Conservation Area/Black Ridge Wilderness, weed management, RAC operations and general program updates.

The meeting is open to the public. Interested persons may make oral statements at the meetings or submit written statements at the meeting. Time for public comment will be at 4 p.m., Thursday, March 15, 2001. Per-person time limits for oral statements may be set to allow all interested persons an opportunity to speak.

Summary minutes of council meetings are maintained at the Bureau of Land Management Offices in Craig and Grand Junction, Colorado. They are available for public inspection and reproduction during regular business hours within thirty (30) days following the meeting.

Dated: February 6, 2001.
Mark Stiles,
Western Slope Center Manager.

[FR Doc. 01-4876 Filed 2-26-01; 8:45 am]

BILLING CODE 4310-JB-P